DEPARTMENT OF AGRICULTURE

Forest Service

Scoria Mining Addition, Medicine Bow-Routt National Forests and Thunder Basin National Grassland; Campbell County, WY

AGENCY: Forest Service, USDA.

ACTION: Notice of intent to prepare an environmental impact statement.

SUMMARY: The Forest Service proposes to authorize Thunder Basin Coal Company, LLC to expand the area of its existing scoria gravel pit development to include public domain minerals on parcels of National Forest System (NFS) lands on Thunder Basin National Grassland. NFS lands within the analysis area include portions of Sections 11-14 and 23-25, T43N R70W, 6th Principal Meridian, Campbell County.

DATES: Comments concerning the project or the scope of the planned environmental analysis must be received by July 20, 2011. The draft environmental impact statement (DEIS) is expected to be available by October 2011, and the final environmental impact statement (FEIS) is expected to be completed by April 2012.

ADDRESSES: Send written comments to Richard A. Cooksey, Deputy Forest Supervisor, Medicine Bow-Routt National Forests and Thunder Basin National Grassland, 2250 East Richards Street, Douglas, Wyoming 82633, or e-mail comments to comments-rm-mbr-douglas-thunder-basin@fs.fed.us.

All comments, including names and addresses of commenters, when provided, are placed in the record and are available for public inspection and copying. The public may review the comments at the Douglas Ranger District at the address noted above. Visitors are encouraged to call ahead to (307) 358-4690 to facilitate entry into the building.

FOR FURTHER INFORMATION, CONTACT: Peter Rose, Solid Minerals Project Manager, Douglas Ranger District, 2250 East Richards St, Douglas, WY 82633, (307) 358-4690.

Individuals who use telecommunication devices for the deaf (TDD) may call the Federal Information Relay Service (FIRS) at 1-800-877-8339 between 8 a.m. and 8 p.m., Eastern Standard Time, Monday through Friday.

SUPPLEMENTARY INFORMATION: Federal coal lessee, Thunder Basin Coal Company, LLC (TBCC), filed with the USDA, Forest Service a request for authorization to access and mine aggregate material (scoria) on NFS lands. The purpose of this action is to ensure that an adequate supply of aggregate material is available for road construction and maintenance in order to support required maintenance and changes in infrastructure necessary for the uninterrupted mining of their Federal coal lease.

The Forest Service proposes to authorize TBCC to remove scoria from NFS lands from an area totaling approximately 459 acres. The analysis will also include 566 acres of private surface lands. The total lands encumbered by mining activity will not include the total above acreage all at one time but will encumber only those lands reasonably needed for the existing scoria mining and will progress over a 10- to 15-year timeframe. Scoria removal will occur in small incremental sections of approximately 10 acres in size, not to exceed 20 acres in any given year, for the purpose of using that scoria on adjacent roads needed for coal mining operations. As the scoria mining moves forward, TBCC will reclaim lands equivalent to the amount of acreage that is being mined. It should be noted that not all lands within the analysis area will be mined. Only those acres that have the potential for scoria material will be disturbed during the proposed mining project.

Richard Cooksey, Deputy Forest Supervisor, Medicine Bow-Routt National Forests and Thunder Basin National Grassland, 2468 Jackson Street, Laramie, Wyoming 82070 is the Official responsible for making the decision on this action. The responsible Official will consider the results of the analysis and its findings and then document the final decision in a Record of Decision (ROD). The decision will include a determination on whether or not to authorize the Scoria Mining Addition to occur in the above described lands as proposed by the applicant (TBCC), or to allow an alternative to the proposed action.

In addition to this notice, the scoping process will include the distribution of letters to interested parties requesting comments on the proposed action, and a public notice will be published in area media.

The Forest Service has identified the following preliminary issues: (1) Potential impacts to wildlife in the proposed project area; (2) potential impacts to the watershed; (3) potential impacts to cultural and paleontological resources; (4) potential impacts to adjacent private lands; and (5) potential impacts to livestock grazing permits on the National Grassland.

This notice is to inform the public of the proposed action and invite the public to participate by providing any comments or information they may have concerning the proposal. This information will be used to identify important issues and determine the extent of the analysis necessary to make an informed decision on the proposal. Such issues will assist in the formulation of additional alternatives and the development of mitigation measures necessary to reduce impacts.

A DEIS will be prepared for comment. The comment period on the DEIS will be 45 days from the date the Environmental Protection Agency publishes the notice of availability in the Federal Register.

The Forest Service believes it is important to give reviewers notice of several court rulings related to public participation in the environmental review process. First, as a result of Vermont Yankee Nuclear Power Corp. v. NRDC, 435 U.S. 519, 553 (1978), reviewers of DEISs must structure their participation in the environmental review of the proposal so that it is meaningful and alerts an agency to the reviewer's position and contentions. Also, in conjunction with City of Angoon v. Hodel, 803 F.2d 1016, 1022 (9th Cir. 1986) and Wisconsin Heritages, Inc. v. Harris, 490 F. Supp. 1334, 1338 (E.D. Wis. 1980), environmental objections that could be raised at the DEIS stage but that are not raised until after completion of the FEIS may be waived or dismissed by the courts. Because of these court rulings, it is very important that those interested in this proposed action participate by the close of the 45-day comment period so that comments and objections are made available to the Forest Service at a time when it can meaningfully consider them and respond to them in the FEIS.

To assist the Forest Service in identifying and considering issues and concerns, comments on the DEIS should be as specific as possible to the proposed action. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points.

Authority: 40 CFR 1501.7 and 1508.22; Forest Service Handbook 1909.15, Section 21)

[FR Doc. 2011-15050 Filed 6-16-11; 8:45 am]

BILLING CODE 3410-11-P